DEPARTMENT OF HEALTH AND HUMAN SERVICES

Office of Global Affairs: Stakeholder Listening Session in Preparation for the 72nd World Health Assembly

Time and date: Monday, May 6, 2019, 10:00 a.m.-11:30 a.m. EST.

Place: Hubert H. Humphrey Building, Auditorium, 200 Independence Ave. SW, Washington, District of Columbia 20201.

Status: Open, but requiring RSVP to OGA.RSVP@hhs.gov by Friday, April 26, 2019.

Purpose: The U.S. Department of Health and Human Services (HHS)—charged with leading the U.S. delegation to the 72nd World Health Assembly—will hold an informal Stakeholder Listening Session on Monday, May 6 from 10:00 a.m. to 11:30 a.m., in the Hubert H. Humphrey Building Auditorium, 200 Independence Ave. SW, Washington, DC 20201. The Stakeholder Listening Session will help the HHS Office of Global Affairs prepare the U.S. delegation for the World Health Assembly by taking full advantage of the knowledge, ideas, feedback, and suggestions from all individuals interested in and affected by agenda items to be discussed at the 72nd World Health Assembly.

Time allotted to each attendee who wishes to comment, not to exceed three minutes, will be communicated at the beginning of session, and will depend on the number of comments anticipated. Written comments are welcome and encouraged, even if you are planning on attending in person. Please send your written comments to OGA.RSVP@hhs.gov.

Your input will contribute to informing U.S. positions as we negotiate with our international colleagues at the World Health Assembly on these important health topics.

The draft agenda for the 72nd World Health Assembly can be found at this website: http://apps.who.int/gb/ebwha/pdf_files/WHA72/A72_1-en.pdf.

The HHS Office of Global Affairs will organize the listening session by agenda item, and welcomes participation from all individuals, including individuals familiar with the following topics and groups:

• Public health and advocacy activities;

• State, local, and Tribal issues;

• Private industry;

• Minority health organizations; and

• Academic and scientific organizations.

RSVP: Due to security restrictions for entry into the HHS Hubert H. Humphrey Building, RSVPs are required for this event. Please send your full name and organization to OGA.RSVP@hhs.gov. Please RSVP no later than Friday, April 26, 2019.

If you are not a U.S. citizen and do not have a U.S. government issued form of identification, please note this in the subject line of your RSVP, and our office will contact you to gain additional biographical information required for your clearance. Photo identification for all attendees is required for building access without exception.

We look forward to hearing your comments related to the 72nd World Health Assembly agenda items.

Dated: March 22, 2019.
Glenn Garrett Grigsby,
Director for Global Affairs.

[FR Doc. 2019-06207 Filed 3-29-19; 8:45 am]

BILLING CODE 4150-38-P